DEPARTMENT OF TRANSPORTATION

Federal Railroad Administration

Notice of Solicitation of Corridor Proposals and Funding Opportunity for the Corridor Identification and Development Program

AGENCY: Federal Railroad Administration (FRA), Department of Transportation (DOT).

ACTION: Notice of solicitation and funding opportunity (notice).

SUMMARY: This notice details the application requirements and procedures for the selection of eligible corridors to participate in the Corridor Identification and Development Program and obtain grant funding appropriated in fiscal year 2022. This notice solicits applications for the Corridor Identification and Development Program funds made available by the Infrastructure Investment and Jobs Act and subsequent appropriations. The opportunity described in this notice is made available under Assistance Listings Number 20.326, “Federal-State Partnership for Intercity Passenger Rail.”

DATES: Applications for selection and funding under the Corridor Identification and Development program (Corridor ID Program or Program) under this notice are due no later than 5 p.m. ET, March 20, 2023. Applications that are incomplete or received after 5 p.m. ET on March 20, 2023 will not be considered. See section (D) of this notice for additional information on the application process.

ADDRESSES: Applications must be submitted via www.Grants.gov. Only applicants who comply with all submission requirements described in this notice and submit applications through www.Grants.gov will be eligible for selection and award under the Corridor ID Program.

FOR FURTHER INFORMATION CONTACT: For further information related to this notice, please contact Peter Schwartz, Acting Director, Office of Railroad Planning and Engineering, by email: PaxRailDev@dot.gov or by telephone: 202-493-6360.

SUPPLEMENTARY INFORMATION:

Notice to applicants: FRA recommends that applicants read this notice in its entirety prior to preparing application materials. Definitions of key terms used throughout the notice are provided in section (A)(2) below. These key terms are capitalized throughout the notice. There are several administrative prerequisites and specific eligibility requirements described herein with which applicants must comply. Additionally, applicants should note that the required Corridor Narrative component of the application package may not exceed 15 pages in length.

Table of Contents

A. Program Description

B. Federal Award Information

C. Eligibility Information

D. Application and Submission Information

E. Application Review Information

F. Federal Award Administration Information

G. Federal Awarding Agency Contacts

H. Other Information

A. Program Description

1. Executive Summary

On November 15, 2021, President Biden signed into law the Infrastructure Investment and Jobs Act, also known as the Bipartisan Infrastructure Law (BIL). Public Law 117-58. The BIL authorized the Secretary of Transportation to establish the Corridor ID Program to facilitate the development of intercity passenger rail corridors. 49 U.S.C. 25101(a). The BIL also provided an historic, unprecedented level of funding for the improvement and expansion of intercity passenger rail service. Infrastructure Investment and Jobs Act, Public Law 117-58, div. J, title VIII (Nov. 15, 2021). The Federal Railroad Administrator is delegated the authority to establish and administer the Corridor ID Program. 49 CFR 1.89(a).

FRA conducted extensive outreach in connection with the new Corridor ID Program. FRA published a Request for Information in the Federal Register on February 7, 2022, seeking comments on the Program and how it can best serve stakeholders and the public. FRA-2022-0006-0001. FRA also conducted three listening sessions on the Corridor ID Program, on February 16 and 17, 2022, with eligible entities, host railroads, and other stakeholders, respectively. In compliance with BIL requirements, 49 U.S.C. 25101(a), FRA published a Federal Register notice on May 13, 2022, that formally established the Program, provided a general description of Program components, and highlighted FRA's intent to publish a notice in the last calendar quarter of 2022 soliciting proposals for Corridors to participate in the Program. 87 FR 29432. In that notice, FRA encouraged further stakeholder engagement by requesting that interested eligible entities submit expressions of interest to the FRA, in advance of FRA's formal solicitation, to facilitate further discussions.

In this notice, FRA is now soliciting proposals for Corridors for selection and funding in the initial round of the Corridor ID Program.

2. Definitions of Key Terms

Terms defined in this section are capitalized throughout this notice.

1. “Implementation” means the final design and construction lifecycle stages of a project, as described in FRA's Guidance on Development and Implementation of Railroad Capital Projects.¹

¹ FRA published the proposed Guidance on Development and Implementation of Railroad Capital Projects in the Federal Register on June 28, 2022. 87 FR 38451; FRA Docket No. FRA-2022-0035. FRA anticipates that the final Guidance will be published in the Federal Register soon. The final Guidance will also be made available in FRA Docket No. FRA-2022-0035. For further information related to this notice's reference to the Guidance, please contact Peter Schwartz, Acting Director, Office of Railroad Planning and Engineering, by email: PaxRailDev@dot.gov or by telephone: 202-493-6360.

2. “Intercity Passenger Rail Corridor” and “Corridor” mean:

a. A new intercity passenger rail route of less than 750 miles;

b. The enhancement of an existing intercity passenger rail route of less than 750 miles;

c. The restoration of service over all or portions of an intercity passenger rail route formerly operated by Amtrak; or

d. The increase of service frequency of a long-distance intercity passenger rail route.

3. “Project Development” means the lifecycle stage of a project when design, environmental, and other studies are conducted, as described in FRA's Guidance on Development and Implementation of Railroad Capital Projects.

4. “Project Planning” means the lifecycle stage of a project when project concepts are developed to establish the type and scope of capital improvements, as described in FRA's Guidance on Development and Implementation of Railroad Capital Projects.

5. “Step 1” means the initiation of a grantee's Corridor development efforts under the Program and the development of a scope, schedule, and cost estimate for preparing a service development plan (SDP) for a Corridor.

6. “Step 2” means the preparation of an SDP (or an update to an existing SDP) to complete Project Planning work consistent with FRA's Guidance on Development and Implementation of Railroad Capital Projects.

7. “Step 3” means the preparation of documentation to complete Project Development work required to ready the Corridor (or phase of the Corridor) for Implementation, including project designs that are reasonably expected to conform to all regulatory, safety, security, and other design requirements, including those under the American with Disabilities Act. Such work includes the completion of preliminary engineering (PE) and National Environmental Policy Act (NEPA) activities, and other documentation for the Corridor's capital project(s) to advance to Implementation, consistent with FRA's Guidance on Development and Implementation of Railroad Capital Projects.

3. Overview

The Corridor ID Program is a comprehensive intercity passenger rail planning and development program that will help guide intercity passenger rail development throughout the country and create a pipeline of intercity passenger rail projects ready for Implementation. Unlike previous Federal intercity passenger rail planning efforts, the Corridor ID Program is intended both to support a sustained long-term development effort, and to set forth a capital project pipeline ready for Federal (and other) funding. The Corridor ID Program is intended to become the primary means for directing Federal financial support and technical assistance toward the development of proposals for new or improved intercity passenger rail services throughout the United States.

FRA's selection of a Corridor to participate in the Program reflects the agency's interest in advancing the Corridor to Implementation and operation, as well as an FRA decision to fund planning and development activities for the Corridor (as further detailed in this notice). FRA will consider Corridor applications for entirely undeveloped concepts for new or improved Corridors, and for concepts that have been the subject of past or ongoing planning and development efforts.² For the latter, selection into the Corridor ID Program will provide the opportunity to complete or update the prior Corridor planning and development efforts.

² Section 22214 of the BIL also requires FRA to conduct the Amtrak Daily Long-Distance Service Study (Long-Distance Study) to evaluate the restoration of Amtrak daily long-distance services to include Amtrak routes that have been discontinued, current Amtrak routes that occur on a nondaily basis, and potentially new Amtrak long-distance routes. The Long-Distance Study is required to develop a prioritized inventory of capital projects for preferred options for restoring or enhancing services. Some of the Corridors that the Long-Distance Study may assess include ones that are eligible under the Corridor ID Program.

Applicants may submit applications for more than one Corridor, under separate submissions. In every submission, FRA encourages applicants to reflect the full scope of the proposed Corridor. As described in section (D)(2)(a)(v), applications must address the applicant's interest in the potential scaling of a Corridor proposal and/or phasing of its Implementation as well as the prioritization of Corridors (where an applicant submits applications for multiple Corridors). As described in section (E)(2), prior to Corridor selection, FRA may (at its sole discretion) engage in a discussion with an applicant on potential Corridor scaling, geographic overlaps between Corridors, and the prioritization of Corridor proposals (for applicants with multiple proposed Corridors). These discussions may result in FRA changes to the scope, phasing, or prioritization of a Corridor as proposed in the application. FRA will not select a modified Corridor proposal to participate in the Program without an applicant's concurrence.

Corridor proposals may vary in scope and may include introducing entirely new intercity passenger rail services (using existing or new rail lines); significantly improving existing services (e.g., geographic extensions, added frequencies, or reduced travel times); or incremental improvements to existing services. FRA strongly encourages sponsors and/or operators of existing intercity passenger rail services that anticipate pursuing Federal funding for capital projects aimed at improving that service to submit applications to the Corridor ID Program to benefit from the advantages of the Program described in this notice.

In addition, FRA strongly encourages all applicants that have previously undertaken or are in the process of undertaking development activities for a Corridor, with the intent of seeking Federal funding for Implementation, to submit applications for those Corridors under this notice. FRA will review any previous Corridor development work to assess whether it is adequate and appropriate, including whether it reflects current conditions, with the aim of incorporating existing work under this Program to the greatest extent practicable.

In keeping with the long-range orientation of the Corridor ID Program, and subject to the availability of funding, FRA anticipates issuing subsequent notices soliciting Corridor proposals at regular intervals to allow opportunities for additional Corridors to participate in the Program. This approach allows for a consistent introduction of new Corridors into the Corridor ID Program for development.

4. Corridor Development Steps

For Corridors selected to participate in the Corridor ID Program under this notice, Corridor development will occur in three, sequenced steps: Step 1, Step 2, and Step 3.

a. Step 1—Corridor Development Initiation and Scope, Schedule, and Cost Estimate for Preparing a Service Development Plan

Step 1 initiates the grantee's Corridor development efforts under the Program by preparing a scope, schedule, and cost estimate for developing an SDP, or updating an existing SDP, for the selected Corridor.³ Step 1 also includes the grant recipient's development of its capability and capacity (including securing initial staff, contractor support, and non-Federal financial resources) necessary to support successfully preparing the SDP and conducting Step 3 activities, as appropriate. With the support of these initial resources, the grantee will work in collaboration with FRA to develop a scope, schedule, and cost estimate for preparing an SDP. FRA expects that selected Corridors will vary in geographic scope, scale, characteristics of new intercity passenger rail service or service improvement, and previous development work. Therefore, as part of Step 1, FRA and the grantee will collaborate to determine the level of effort required to successfully prepare or update an SDP, which will be reflected in the scope, schedule, and cost estimate.

³ FRA's notice establishing the Corridor ID Program did not address Corridor development initiation and the preparation of the scope, schedule, and cost estimate for an SDP. 87 FR 29432. Typically, an applicant for Federal financial assistance would develop such information independently. FRA has included these activities in the Corridor ID Program and is making them eligible for funding because they are relevant to the successful development of intercity passenger rail corridors. See 49 U.S.C. 25101(a)(7).

The scope, schedule, and cost estimate will also identify the work product and deliverables the grantee will prepare and the sequence for preparing those documents; the appropriate level and timing of public and agency involvement in developing the SDP; and the process the grantee will engage in when developing an SDP to ensure logical decision-making and appropriate engagement. When developing the scope for the SDP, FRA and the grantee will seek opportunities for the SDP to maximize efficiencies in subsequent NEPA processes undertaken for the Corridor. FRA will determine when the grantee has successfully completed Step 1.

b. Step 2—Service Development Plan

After the grantee has successfully completed Step 1 and secured the required cost share funding (see section (C)(3) below), the Corridor will advance to Step 2—preparing an SDP (or updating an existing SDP). Preparing an SDP for a selected Corridor, through a partnership between FRA and the grantee as required by 49 U.S.C. 25101(d), is a central undertaking under the Corridor ID Program. In addition, the grantee and FRA will partner with relevant States and Amtrak, as appropriate, in connection with the preparation of the SDP. 49 U.S.C. 25101(d).

Through engaging in Project Planning, the SDP will determine and document how the Corridor will be implemented. As such, preparing the SDP will identify the draft purpose and need for intercity passenger rail development and will incorporate an analysis of alternatives—that may vary, as applicable, in terms of geographic route, service characteristics, and required capital projects—for implementing the Corridor. The analysis of alternatives will be supported by technical transportation planning and conceptual engineering; high-level analysis and consideration of environmental factors associated with the alternatives; and input provided through public involvement (please see DOT's Promising Practices for Meaningful Public Involvement in Transportation Decision-Making at https://www.transportation.gov/priorities/equity/promising-practices-meaningful-public-involvement-transportation-decision-making), coordination with relevant public agencies, and, as appropriate, consultation with Federally recognized Indian tribes. The SDP will also identify the governance structure for the Implementation and operation of the Corridor.

Because an SDP must include a “Corridor project inventory that identifies the capital projects necessary to achieve the proposed service,” 49 U.S.C. 25101(d)(2)), the analysis of alternatives in the SDP will identify a single geographic route and set of service characteristics for the Corridor with which the list of required capital projects is associated. The SDP alternatives analysis is the foundation for scoping in the Step 3 NEPA process and will expedite Project Development and Implementation of selected Corridors.

Consistent with 49 U.S.C. 25101(d), the SDP will be prepared through a partnership between FRA and the grantee, although the primary responsibility for preparing the SDP will lie with the grantee. FRA's role in preparing the SDP will include review and approval of component work products and deliverables developed in support of the SDP, along with participation in and concurrence with all determinations regarding alternatives for implementing the Corridor. FRA's role in preparing the SDP will be described in detail in the statement of work governing the award of Federal funding to the grantee for Step 2 (see section (C)(3) below).

SDPs may be prepared as long-range Corridor planning documents, with the option to implement in multiple phases. For example, SDPs may reflect two or more discrete Implementation phases, with each phase associated with a specific geographic scope, set of service characteristics, and/or improvements that, if implemented, would independently benefit intercity passenger rail service that would be operating on an ongoing basis. The Corridor's project inventory, required by 49 U.S.C. 25101(d)(2), will be organized by the capital projects required to implement each discrete phase. With this approach, FRA intends to avoid situations in which a Corridor may be developed only as an “all-or-nothing” proposition, and to minimize the possibility that near-term Implementation of a Corridor would conflict with the longer-term Implementation of the Corridor.

At a minimum, an SDP will include the following information: (1) a detailed description of the proposed intercity passenger rail service, including train frequencies, peak and average operating speeds, and trip times; (2) a Corridor project inventory that identifies the capital projects necessary to achieve the proposed service and the order in which Federal funding will be sought; (3) a schedule and associated phasing of projects and related service initiation or changes; (4) project sponsors and other entities expected to participate in carrying out the plan; (5) a description of how the Corridor would comply with Federal rail safety and security laws; (6) the locations of existing and proposed stations; (7) the needs for rolling stock and other equipment; (8) a financial plan; (9) a description of how the Corridor would contribute to the development of a multi-State regional network of intercity passenger rail; (10) an intermodal plan describing how the new or improved Corridor facilitates travel connections with other passenger transportation services; (11) a description of the anticipated environmental benefits of the Corridor; and (12) a description of the corridor's impacts on highway and aviation congestion, energy consumption, land use, and economic development in the service area. 49 U.S.C. 25101(d)(1)-(12).

⁴ Regular engagement between a grantee and host railroad(s), where applicable, during Project Planning are important to the success of a Corridor.

In partnering on the preparation of an SDP, FRA will consult with Amtrak; State and regional transportation authorities and local officials; representatives of employee labor organizations representing railroad and other appropriate employees; host railroads; ⁴ and other stakeholders as determined by FRA. 49 U.S.C. 25101(e). To the extent applicable, FRA expects the preparation of an SDP to consider shared benefits to both freight and commuter rail operations and that the grantee and FRA will jointly engage with host railroads and relevant commuter rail operators early in the process to maximize shared benefits realized by the Corridor. In addition, every five years after the initial development of an SDP, if at least 40% of the work to implement the SDP has not been completed, as determined by FRA, then the grantee, in consultation with FRA, will decide whether the plan should be updated. 49 U.S.C. 25101(f). If an SDP update is needed, FRA will determine the Corridor's status in the Corridor ID Program. FRA will determine when the grantee has successfully completed the SDP.

c. Step 3—Project Development

Following the successful completion of Step 2, the Corridor, or one or more discrete phases of the Corridor, may advance to Step 3 under the Corridor ID Program. Step 3 is the Project Development work required to make projects identified in the SDP's Corridor project inventory ready for Implementation (i.e., final design and construction). Project Development includes the completion of PE, NEPA, and other documentation for the Corridor's capital project(s) to advance to Implementation, consistent with FRA's Guidance on Development and Implementation of Railroad Capital Projects. Projects from a Corridor project inventory may advance to Step 3 as part of a specific Implementation phase of the Corridor as identified in the SDP.

FRA will advance into Project Development only those phases that: are likely to continue to Implementation following Project Development; and, if implemented, would independently benefit intercity passenger rail service that would operate on an ongoing basis. In considering whether a Corridor Implementation phase is ready to advance to Step 3, FRA will consider: (1) the capability, authority, and experience of the grantee; (2) the content of the SDP; (3) whether the grantee has secured the required non-Federal funding for work undertaken as part of Step 3 (see section (C)(3)); and (4) whether the Implementation phase is ready to enter Project Development, consistent with FRA's Guidance on Development and Implementation of Railroad Capital Projects. FRA will review development work undertaken prior to the selection of the Corridor to participate in the Program to determine its adequacy and appropriateness, with the aim of incorporating it into the completion of Step 3 to the greatest extent practicable. In addition, FRA may recommend that a grantee pursue funding for Step 3 activities under a program other than the Corridor ID Program.

FRA will determine when the grantee has successfully completed Step 3.

5. Funding

Under this notice, FRA will select Corridors for participation in the Corridor ID Program. For each selected Corridor, FRA will initially award the grantee $500,000 for eligible Step 1 activities. The initial award will not be subject to any cost sharing. Should the completion of eligible Step 1 activities not require the use of the full $500,000 of the initial award, any remaining funds will be carried forward to the Step 2 award for Step 2 activities.

Upon FRA's determination that the grantee has successfully completed Step 1, FRA will award the grantee funds for eligible Step 2 activities (subject to the availability of funding). FRA will determine the funding amount for Step 2 based on the cost estimate developed in Step 1. As described in section (C), there is a minimum 10 percent cost sharing requirement for Step 2 activities.

Following FRA's determination that the grantee has successfully completed Step 2 and is ready to advance to Step 3 as described in section (A)(4)(b), and subject to the availability of funding, FRA may award the grantee funds for eligible Step 3 activities. The amount and sequence of Step 3 funding will be based on the SDP, including cost estimates for completing Project Development for a phase of the Corridor. Step 3 funding may be provided through multiple awards, with each award funding Step 3 activities for a specific Implementation phase. As described in section (C), there is a minimum 20 percent cost sharing requirement for Step 3 activities. If there is not sufficient Federal funding available under the Corridor ID Program to award the maximum 80 percent share of Step 3 costs, FRA may allow a phase to advance to Step 3 if the grantee has other funding available to complete the Step 3 activities for the phase.

Once a Corridor is selected to participate in the Corridor ID Program, the grantee does not compete for Program funding for Step 2 and Step 3. Instead, funding under the Program is dictated by a grantee's successful completion of a Step, as determined by FRA. The table below illustrates this funding sequence.

Step | Work activities | Award amount | Grantee minimum cost share (%)
Step 1 | Scope, Schedule, and Cost Estimate for SDP | $500,000 | 0
Step 2 | SDP | TBD | 10
Step 3 | Project Development | TBD | 20

The opportunity described in this notice is made available under Assistance Listings Number 20.326, “Federal-State Partnership for Intercity Passenger Rail.” FRA is authorized to use up to 5 percent of the funding made available for the Federal-State Partnership for Intercity Passenger Rail grants (Fed-State Partnership) program to carry out planning and development activities related to the Corridor ID Program. 49 U.S.C. 24911(k). Such activities include: (1) providing funding to public entities for the development of SDPs selected under the Corridor ID Program; (2) facilitating and providing guidance for intercity passenger rail systems planning; and (3) providing funding for the development and refinement of intercity passenger rail systems planning analytical tools and models. 49 U.S.C. 24911(k). In addition, such planning and development activities include a Corridor's Project Development activities, such as PE and NEPA, that are relevant to the successful development of intercity passenger rail corridors and to the success of the Program. 49 U.S.C. 25101(a)(7) (FRA may include in the Program “such other features as the [FRA] considers relevant to the successful development of intercity passenger rail corridors.”); see also 49 U.S.C. 24911(k) (development activities related to the Corridor ID Program are eligible for funding).

6. Project Pipeline

Within 1 year of establishing the Program, and by February 1st of each year thereafter, FRA will submit a “project pipeline” report to Congress. 49 U.S.C. 25101(g). As FRA established the Program on May 13, 2022, FRA will submit the first project pipeline report to Congress on or before May 13, 2023. 87 FR 29432.

The project pipeline report: (1) identifies intercity passenger rail corridors selected for development under the Program; (2) identifies capital projects for Federal investment, project applicants, and proposed Federal funding levels, as applicable, consistent with the Corridor project inventory; (3) specifies the order in which the Secretary would provide Federal financial assistance to projects that have identified sponsors, including a method and plan for apportioning funds to project sponsors for a five-year period; (4) takes into consideration the appropriate sequence and phasing of projects described in the Corridor project inventory; (5) takes into consideration the existing commitments and anticipated Federal, project applicant, sponsor, and other relevant funding levels for the next 5 fiscal years; (6) is prioritized based on the level of readiness of the Corridor; ⁵ and (7) reflects consultation with Amtrak. 49 U.S.C. 25101(g)(1)-(7).

⁵ In connection with the project pipeline report, FRA's criteria for determining the level of readiness for Federal financial assistance of a Corridor include: (1) identification of a service operator which may include Amtrak or private rail carriers; (2) identification of a service sponsor or sponsors; (3) identification of capital project sponsors; (4) engagement with the applicable host railroads; and (5) such other criteria as determined appropriate by FRA. 49 U.S.C. 25101(a)(3).

The annual project pipeline report includes a Program-wide, prioritized list of projects that have completed Project Development and are ready for Implementation. The project pipeline report will also include a list of projects that are in Project Development, and thus are in the process of being prepared for future inclusion in the project pipeline.

7. Program Guidance

FRA intends to issue Corridor ID Program guidance as the Program advances, including guidance for Corridors not selected to participate in the Program. 49 U.S.C. 25101(a)(6). Following the selection of Corridors under this notice, FRA will also provide an opportunity for all applicants with Corridors not selected to meet with FRA to receive feedback on their Corridor proposals.

8. DOT Strategic Goals

FRA will implement the Corridor ID Program, as appropriate and consistent with law, in alignment with the priorities in Executive Order 14052, Implementation of the Infrastructure Investments and Jobs Act (86 FR 64355), which are to invest efficiently and equitably, promote the competitiveness of the U.S. economy, improve job opportunities by focusing on high labor standards, strengthen infrastructure resilience to all hazards including climate change, and to effectively coordinate with State, local, Tribal, and territorial government partners.

Through the Corridor ID Program, FRA seeks to identify Corridors that reduce greenhouse gas emissions and can be designed with specific elements to address climate change impacts. Specifically, FRA is looking to identify Corridors that align with the President's greenhouse gas reduction goals, promote energy efficiency, support fiscally responsible land use and efficient transportation design, increase climate resilience, support domestic manufacturing, and reduce pollution.

FRA also seeks to identify Corridors that address environmental justice, particularly for communities that disproportionally experience climate change-related consequences. Environmental justice, as defined by the Environmental Protection Agency, is the fair treatment and meaningful involvement of all people regardless of race, color, national origin, or income, with respect to the development, implementation, and enforcement of environmental laws, regulations, and policies. As part of the implementation of Executive Order 14008, Tackling the Climate Crisis at Home and Abroad (86 FR 7619), FRA seeks to identify Corridors that, to the extent possible, target at least 40 percent of resources and benefits towards low-income communities, disadvantaged communities, communities underserved by affordable transportation, or overburdened communities.⁶

⁶ Overburdened Community: Minority, low-income, tribal, or indigenous populations or geographic locations in the United States that potentially experience disproportionate environmental harms and risks. This disproportionality can be as a result of greater vulnerability to environmental hazards, lack of opportunity for public participation, or other factors. Increased vulnerability may be attributable to an accumulation of negative or lack of positive environmental, health, economic, or social conditions within these populations or places. The term describes situations where multiple factors, including both environmental and socio-economic stressors, may act cumulatively to affect health and the environment and contribute to persistent environmental health disparities.

FRA also seeks to identify Corridors that proactively address racial equity and barriers to opportunity, including automobile dependence, as a form of barrier, or redress prior inequities and barriers to opportunity. Section (E)(1)(c) describes racial equity considerations that an applicant can undertake, and FRA will consider during the review of applications.

In addition to prioritizing projects that address climate change, proactively address racial equity, and reduce barriers to opportunity, to the extent possible in Project Planning and Project Development, FRA intends to use the Corridor ID Program to support the creation of good-paying jobs with the free and fair choice to join a union and the incorporation of strong labor standards and training and placement programs, especially registered apprenticeships and Local Hire agreements. Projects that incorporate such considerations are expected to support a strong economy and labor market.

FRA also intends to use the Corridor ID Program to support Corridors that encourage transit-oriented development to the extent it is applicable, for the purpose of enhancing the economic vitality and competitiveness of a neighborhood and region and providing new spaces and opportunities for commercial activity and housing.

Section (E) of this notice, which outlines the Corridor ID Program selection criteria, describes the process for selecting Corridors that further these goals. Section (F)(3) describes progress and performance reporting requirements for selected Corridors, including the relationship between that reporting and the Corridor ID Program's selection criteria.

B. Federal Award Information

1. Available Award Amount

The funding made available in this notice comes from FRA's authority to use up to 5 percent of the funding made available for the Fed-State Partnership program to carry out planning and development activities related to the Corridor ID Program. 49 U.S.C. 24911(k). The BIL provided significant funding for the Fed-State Partnership program of $7.2 billion for Fiscal Year 2022.⁷ Public Law 117-58, div. J, title VIII. FRA may also elect to award additional available funds to applications received under this notice (any selection and award under this notice is subject to the availability of appropriated funds).

⁷ The Fed-State Partnership program is authorized for additional annual appropriations.

Importantly, once a Corridor is selected to participate in the Program and receive Step 1 funding, additional funding for Step 2 and Step 3 activities is not competitive and FRA will award such funding upon the grantee's successful completion of the preceding step and demonstration of readiness to proceed, as determined by FRA, consistent with this notice and the availability of funding under 49 U.S.C. 24911(k). Any selection and award under this notice is subject to the availability of appropriated funds.

2. Award Size

FRA will award the applicant of a selected Corridor $500,000 for eligible Step 1 activities. As described, subsequent individual awards for Step 2 and Step 3 activities have no predetermined minimum or maximum dollar thresholds. FRA anticipates making multiple Corridor selections under this notice. FRA may not award grants to all eligible applications even if they meet or exceed the stated evaluation criteria (see section (E)).

3. Award Type

FRA will make awards for Corridors selected under this notice through cooperative agreements. Cooperative agreements allow for substantial Federal involvement in carrying out the agreed upon investment, including technical assistance, review of interim work products, and increased program oversight. See section (A)(4). The use of cooperative agreements is consistent with the statutory direction that selected Corridors be developed through a partnership between the applicant and FRA. 49 U.S.C. 25101(d). The term “grant” is used throughout this document and is intended to reference funding awarded through a cooperative agreement. The funding provided under this notice will be made available to grantees on a reimbursable basis. Applicants must certify that their expenditures are allowable, allocable, reasonable, and necessary to the approved project before seeking reimbursement from FRA. Additionally, grantees are expected to expend matching funds at the percentage required in the grant concurrent with Federal funds throughout the life of the project. See an example of standard terms and conditions for FRA grant awards at: https://www.fra.dot.gov/eLib/Details/L19057. This template is subject to revision.

4. Concurrent Applications

DOT and FRA may be concurrently soliciting applications for transportation infrastructure projects for several financial assistance programs. Applicants may submit applications requesting funding for a particular project to one or more of these programs. In the application for funding under this notice, applicants must indicate the other program(s) to which they submitted an application for funding the Corridor or certain Corridor components, as well as highlight new or revised information in the application responsive to this notice that differs from the previously submitted application(s).

C. Eligibility Information

This section of the notice explains applicant eligibility, Corridor eligibility, eligible activities, and cost sharing or matching requirements. Applications that do not meet the requirements in this section are ineligible for funding. Instructions for submitting eligibility information to FRA are detailed in section (D) of this notice.

1. Eligible Applicants

The following entities are eligible to submit applications to participate in the Corridor ID Program under this notice:

a. Amtrak.

b. States.

c. Groups of States.

d. Entities implementing interstate compacts.

e. Regional passenger rail authorities.

f. Regional planning organizations.

g. Political subdivisions of a State.

h. Federally recognized Indian Tribes.

The applicant serves as the primary point of contact for the application, and if selected, as the recipient of the Corridor ID Program grant award. An application may identify entities that are not eligible applicants as Corridor partners.

2. Cost Sharing or Matching

For Step 1 activities, there is no minimum cost share or match requirement for Corridors funded under this notice. For Step 2 activities, the Federal share of total costs for a Corridor will not exceed 90 percent.⁸ For Stage 3 activities, the Federal share of total costs for a Corridor will not exceed 80 percent.

⁸ The notice establishing the Corridor ID Program stated that not less than a 20 percent non-Federal share of eligible costs would be expected for the Corridor ID Program. 87 FR 29432. While a 20 percent match is consistent with the requirements of the Fed-State Partnership program, it is not required for the Corridor ID Program. See 49 U.S.C. 24911(f)(2) (establishing a Federal share of 80 percent for “a project under this section”—“this section” is the Fed-State Partnership program (which does not encompass the Corridor ID Program). After further consideration, outreach, and development of the Program, FRA believes a graduated non-Federal match requirement better advances the Program by further encouraging applicants from across the country to participate. Therefore, as reflected in this notice, FRA will fund 100 percent of the eligible Step 1 activities, up to 90 percent of the eligible Step 2 activities, and up to 80 percent of the eligible Step 3 activities.

The non-Federal share may be composed of public sector (e.g., state or local) and/or private sector funding. FRA will not consider any non-Federal funds already expended (or otherwise encumbered) toward the matching requirement,⁹ unless compliant with 2 CFR part 200. In-kind contributions, including the donation of services, materials, and equipment, may be credited as a project cost, in a uniform manner consistent with 2 CFR 200.306.

⁹ See section (F)(2)(a) for supporting information required to demonstrate eligibility of Federal funds for use as match.

Amtrak or another railroad carrier may use ticket and other non-Federal revenues generated from its operations and other sources as matching funds.

Before applying, applicants should carefully review the principles for cost sharing or matching in 2 CFR 200.306. Cost sharing or matching may be used only for eligible purposes under the Program and are subject to the requirements of the Federal award.

3. Eligible Corridors

An applicant is not limited in the number of Corridors for which they seek participation in the Corridor ID Program. The Corridors that are eligible under the Corridor ID Program are defined in section (A)(2). See also 49 U.S.C. 25101(h). That definition is limited exclusively to intercity passenger rail routes. As such, commuter rail services are not “Corridors” under this definition and are not eligible to participate in the Program. See 49 U.S.C. 24102(4) (“[I]ntercity rail passenger transportation” means rail passenger transportation, except commuter rail passenger transportation.”).¹⁰ Likewise, an eligible Corridor must encompass a geographic scope sufficient to constitute intercity passenger rail transportation; a proposal that only consists of a portion of a route, which if advanced independently would not constitute intercity passenger transportation, is not eligible.

¹⁰ With that said, a Corridor may jointly benefit commuter rail services and intercity passenger rail services and be eligible to participate in the Program, assuming it meets the Corridor criteria as described in section (A)(2).

While an eligible Corridor may include geographic markets and/or segments that are outside of the United States (e.g., where a major travel market outside of the United States is located in proximity to the international border, or where a Corridor segment passing outside of the United States connects markets lying within the United States), the Corridor ID Program will focus on the components of a Corridor that are located in the United States.

In addition, Corridor eligibility is limited to proposals that use technologies that are ready for deployment and Implementation at the time of application. Proposals that include the use of unproven technologies that are under development at the time of application are not eligible.

4. Eligible Activities

For Corridors selected to participate in the Corridor ID Program, the following activities are eligible for funding under 49 U.S.C. 24911(k) and this notice:

a. Step 1: The initiation of an applicant's Corridor development efforts under the Program (including securing the professional and technical staff or contractor support necessary to prepare an SDP) and the development of a scope, schedule, and cost estimate for preparing an SDP for a Corridor.

b. Step 2: The preparation of an SDP (or an update to an existing SDP) consistent with 49 U.S.C. 25101(d) and this notice to complete Project Planning work consistent with FRA's Guidance on Development and Implementation of Railroad Capital Projects.

c. Step 3: The preparation of all additional Project Development work required to ready the Corridor (or the initial phase or phases of the Corridor) for Implementation. Such work includes the completion of PE and NEPA activities, and other documentation for the Corridor's capital project(s) to advance to Implementation, consistent with FRA's Guidance on Development and Implementation of Railroad Capital Projects.

D. Application and Submission Information

1. Address To Request Application Package

Application materials may be accessed at https://www.Grants.gov. Applicants must submit all application materials in their entirety through https://www.grants.gov no later than 5 p.m. ET, on March 20, 2023. Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; phone: 202-578-9337.

2. Content and Form of Application Submission

FRA strongly advises applicants to read this section carefully. Applicants must submit all required information and components of the application package to be considered for selection and funding under the Corridor ID Program. Applications that are not submitted on time or do not contain all required documentation will not be considered. To support the application, applicants may provide other relevant and available optional supporting documentation that may have been developed by the applicant.

Required documents for an application package are described in subsections (a) and (b) below.

a. Corridor Narrative

This section describes the minimum content required in the Corridor Narrative for applications under the Corridor ID Program. The Corridor Narrative must follow the basic outline below to address the Program requirements and to assist evaluators in locating relevant information.

I. Cover Page | See D.2.a.i.
II. Corridor Summary | See D.2.a.ii.
III. Corridor Funding | See D.2.a.iii.
IV. Applicant Eligibility | See D.2.a.iv.
V. Detailed Corridor Description | See D.2.a.v.
VI. Corridor Location | See D.2.a.vi.
VII. Evaluation and Selection Criteria | See D.2.a.vii.
VIII. DOT Strategic Goals | See D.2.a.viii.

The above content must be provided in a narrative statement submitted by the applicant. The Corridor Narrative may not exceed 15 pages in length (excluding cover pages, table of contents, and supporting documentation). FRA will not review or consider Corridor Narratives beyond the 15-page limitation. If possible, applicants should submit supporting documents via website links rather than hard copies. If supporting documents are submitted, applicants must clearly identify the relevant portion of the supporting document with the page numbers of the cited information in the Corridor Narrative. The Corridor Narrative must adhere to the following outline.

i. Cover Page: Include a cover page that lists the following elements in either a table or formatted list:

Corridor Title
Applicant
Was a Federal Grant Application Previously Submitted for this Corridor? | Yes/No If yes, please specify the program, funding year and project title of the previous application.
Other sources of Funding for the Corridor? | Yes/No If yes, please specify the source of funding and the estimated amount.
City(-ies), State(s) Where the Corridor is Located
Congressional District(s) Where the Corridor is Located
Is the Corridor currently programmed or identified in: State rail plan, or regional or interregional intercity passenger rail systems planning study? | Yes/No If yes, please specify in which plans the Corridor is currently programmed/identified and how the plan may be accessed.
Is the applicant working with other entities in support of the Corridor? | Yes/No If yes, please specify the entities.

ii. Corridor Summary: Provide a brief 4-6 sentence summary of the Corridor. Include challenges the Corridor aims to address and summarize the intended outcomes and anticipated benefits that will result from the Corridor.

iii. Corridor Funding: If applicable, indicate in table format the amount of non-Program funding (both Federal and non-Federal) available at the time of application to support eligible activities under the Program.¹¹ Identify the source(s) of non-Program funds, including funding commitment letters outlining funding agreements, as attachments or in an appendix. If non-Program Federal funding is available to support the development of the Corridor, demonstrate the applicant's determination of eligibility for such use, and the legal basis for that determination. Also, note if any available non-Program funding must be obligated or spent by a certain date due to dependencies or relationships with other Federal or non-Federal funding sources, related projects, law, or other factors. Finally, specify whether Federal funding for the Corridor has previously been sought, and identify the Federal program and fiscal year of the funding request(s), as well as highlight new or revised information in the Corridor ID Program application that differs from the application(s) to other financial assistance programs.

¹¹ Although there is not a cost sharing requirement for the selection of a Corridor to participate in the Program, as discussed, there is a cost sharing requirement in connection with Step 2 and Step 3 activities under the Program.

iv. Applicant Eligibility: Explain how the applicant meets the applicant eligibility criteria outlined in section (C) of this notice including where appropriate citations to applicable enabling legislation for the applicant.

v. Detailed Corridor Description: Include a detailed Corridor description that expands upon the brief Corridor summary. This detailed description should address, at a minimum: (1) information regarding the basic characteristics of the Corridor, including the key geographic travel markets that must be served for the Corridor to fulfill its intended objectives, high-level initial estimates, preferably expressed as ranges or options, of certain Corridor characteristics (such as the potential service frequencies and travel times between the Corridor-defining markets, the potential geographic routes for the Corridor (particularly if the subject Corridor is intended to operate over existing rail lines), and, for Corridors with improvements to existing intercity passenger rail services, a detailed description of the improvements proposed to be developed under the Program); (2) information necessary to assess the readiness of the Corridor to enter into planning and development under the Program, including demonstrating the existing level of commitment of the applicant; (3) a description of any eligible activities (see section (C)) that have been completed or are currently ongoing for the Corridor; (4) the intended operator of the Corridor, if known; ¹² (5) the legal, technical, and financial capability and capacity of the applicant and relevant partners to engage in the planning and development of the Corridor, as well as their ability to support and fund the Implementation and operation of the Corridor; ¹³ (6) information on the challenges the Corridor aims to address; (7) the expected users and beneficiaries of the Corridor, including all railroad operators; (8) the applicant's interest in potential scaling of the Corridor proposal and/or phasing of its Implementation; (9) for applicants submitting applications for multiple Corridors, a listing of all applications and the applicant's prioritization of the Corridors; and (10) any other information the applicant deems necessary to justify the Corridor. FRA may also consider relevant supporting documentation, such as letters of support from partnering organizations, none of which will count against the Corridor Narrative 15-page limit.

¹² For example, Amtrak's role as operator is relevant to the Corridor planning and development process (including the use and improvement of facilities of host railroads, ongoing operating and maintenance costs, and requirements regarding the provision of operating financial support by service sponsors). In the May 13, 2022, notice that formally established the Program, FRA indicated that applications must state whether the Corridor was intended to be operated by Amtrak. 87 FR 29436. However, FRA has now determined that this question may be addressed in Step 1 under the Program. With that said, if the applicant has made a determination at the time of application, it should include that information in the application.

¹³ The ability to secure such future funding may be demonstrated by the applicant's past or current funding of intercity passenger rail capital improvements and operations.

vi. Corridor Location: Include geospatial data for the Corridor, as well as a map of the Corridor's location. For applications relating to Corridors for which the route and geographic alignment is not known, the geospatial data and map may be limited in detail to depicting the connections between the key geographic travel markets that must be served for the Corridor to fulfill its intended objectives. Geospatial data can be expressed in terms of decimal degrees for latitude and longitude of at least five decimal places of precision or start and end mileposts designating railroad code and subdivision name. On the map, include the Congressional districts which the Corridor may traverse.

vii. Evaluation and Selection Criteria: Include a thorough discussion of how the Corridor meets the evaluation and selection criteria, as outlined in section (E) of this notice. FRA recognizes that an applicant may not be able to provide detailed information in connection with each of the statutory evaluation criteria (section (E)(1)(b)(i)). Applicants are encouraged to provide as much detail related to those criterion as is available, and applications will not be penalized in the evaluation process where detailed information is not available.

viii. DOT Strategic Goals: To the extent feasible, applicants should describe, as applicable, efforts to consider climate change and sustainability impacts, as well as efforts to improve equity and reduce barriers to opportunity in Corridor planning. In addition, applicants should describe how Corridor planning and development may advance good-paying, quality jobs and workforce programs and hiring policies that promote workforce inclusion. Additional information about strong labor standards that grant award recipients will be expected to meet are described below in Administrative and National Policy Requirements (section (F)(2)).

b. Additional Application Elements

Applicants must submit:

i. SF 424—Application for Federal Assistance.

ii. SF 424A—Budget Information for Non-Construction.

iii. SF 424B—Assurances for Non-Construction.

iv. FRA F 30—Certifications Regarding Debarment, Suspension and Other Responsibility Matters, Drug-Free Workplace Requirements and Lobbying, located at https://railroads.dot.gov/elibrary/fra-f-30-certifications-regarding-debarment-suspension-and-other-responsibility-matters.

v. FRA F 251—Applicant Financial Capability Questionnaire, located at https://railroads.dot.gov/elibrary/fra-f-251.

vi. SF LLL—Disclosure of Lobbying Activities, if applicable.

Standard OMB Forms needed for the electronic application process are at www.Grants.gov.

3. Unique Entity Identifier and System for Award Management (SAM)

To apply for funding through Grants.gov, applicants must be properly registered in SAM before submitting an application; provide a valid unique entity identifier in its application; and continue to maintain an active SAM registration as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable SAM requirements. If an applicant has not fully complied with these requirements by the time the Federal awarding agency is ready to make a Federal award, the Federal awarding agency may determine that the applicant is not qualified to receive a Federal award and use that determination as a basis for making a Federal award to another applicant. Late applications that are the result of a failure to register or comply with Grants.gov applicant requirements in a timely manner will not be considered. If an applicant has not fully complied with the requirements by the submission deadline, the application will not be considered. To submit an application through Grants.gov, applicants must:

a. Register With the SAM at www.SAM.gov.

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a recipient's immediate and highest-level owner and subsidiaries, as well as on all predecessors that have been awarded a Federal contract or grant within the last three years, if applicable. Information about SAM registration procedures is available at www.sam.gov.

b. Obtain a Unique Entity Identifier.

On April 4, 2022, the federal government stopped using DUNS numbers. The DUNS Number was replaced by a new, non-proprietary identifier that is provided by the System for Award Management (SAM.gov). This new identifier is called the Unique Entity Identifier (UEI), or the Entity ID. To find or request a Unique Entity Identifier, please visit www.sam.gov.

c. Create a Grants.gov username and password.

Applicants must complete an Authorized Organization Representative (AOR) profile on www.Grants.gov and create a username and password. Applicants must use the organization's UEI to complete this step. Additional information about the registration process is available at: https://www.grants.gov/web/grants/applicants/organization-registration.html.

d. Acquire Authorization for your AOR from the E-Business Point of Contact (E-Biz POC).

The E-Biz POC at the applicant's organization must respond to the registration email from Grants.gov and login at www.Grants.gov to authorize the applicant as the AOR. Please note there can be more than one AOR for an organization.

e. Submit an Application Addressing All Requirements Outlined in this NOFO.

If an applicant has trouble at any point during this process, please call the Grants.gov Customer Center Hotline at 1-800-518-4726, 24 hours a day, 7 days a week (closed on Federal holidays). For information and instructions on each of these processes, please see instructions at: http://www.grants.gov/web/grants/applicants/apply-for-grants.html.

4. Submission Dates and Times

Applicants must submit complete applications to www.Grants.gov no later than 5 p.m. ET, March 20, 2023. Applicants will receive a system-generated acknowledgement of receipt. FRA reviews www.Grants.gov information on dates/times of applications submitted to determine timeliness of submissions. Late applications will be neither reviewed nor considered. Delayed registration is not an acceptable reason for late submission. To apply for funding under this announcement, all applicants are expected to be registered as an organization with Grants.gov. Applicants are strongly encouraged to apply early to ensure all materials are received before this deadline.

To ensure a fair competition of limited discretionary funds, the following conditions are not valid reasons to permit late submissions: (1) failure to complete the Grants.gov registration process before the deadline; (2) failure to follow Grants.gov instructions on how to register and apply as posted on its website; (3) failure to follow all the instructions in this notice; and (4) technical issues experienced with the applicant's computer or information technology environment.

5. Intergovernmental Review

Intergovernmental Review is required for this Program. Applicants must contact their State Single Point of Contact to comply with their state's process under Executive Order 12372.

6. Funding Restrictions

Consistent with 2 CFR 200.458, as applicable, FRA will only approve pre-award costs for Step 1 if such costs are incurred pursuant to the negotiation and in anticipation of the grant agreement and if such costs are necessary for efficient and timely performance of the scope of work. Under 2 CFR 200.458, grantees must seek written approval from FRA for pre-award Step 1 activities to be eligible for reimbursement under the grant. Activities initiated prior to the execution of a grant or without FRA's written approval may be ineligible for reimbursement or matching contribution. Cost sharing or matching may be used only for authorized Federal award purposes.

7. Other Submission Requirements

For any supporting application materials that an applicant cannot submit via Grants.gov, such as oversized engineering drawings, an applicant may submit an original and two (2) copies to Peter Schwartz, Acting Director, Office of Railroad Planning and Engineering, Federal Railroad Administration, 1200 New Jersey Avenue SE, Washington, DC 20590. However, due to delays caused by enhanced screening of mail delivered via the U.S. Postal Service, FRA advises applicants to use other means of conveyance (such as courier service) to assure timely receipt of materials before the application deadline. Additionally, if documents can be obtained online, explaining to FRA how to access files on a referenced website may also be sufficient.

Note: Please use generally accepted formats such as .pdf, .doc, .docx, .xls, .xlsx and .ppt, when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria

a. Eligibility, Completeness, and Applicant Risk Review

FRA will first screen each application for applicant and Corridor eligibility (eligibility requirements are outlined in section (C) of this notice), and completeness (application documentation and submission requirements are outlined in section (D) of this notice).

FRA will then consider applicant risk, including the applicant's past performance in developing and delivering similar projects.

b. Evaluation Criteria

FRA will evaluate all eligible and complete applications using the evaluation criteria outlined in this section.

i. Corridor Benefits:

FRA will evaluate the Corridor benefits of the proposed Corridor, including: ¹⁴

¹⁴ As discussed, FRA recognizes that detailed information capable of demonstrating that a Corridor meets certain of these evaluation criteria (e.g., sections (A)-(E)), may not have been developed for the Corridor at the time of application (as much of this information would be developed as part of the preparation of an SDP). Applications will not be penalized in the evaluation process if detailed information related to these criteria is not available at the time of application.

A. The projected ridership, revenues, capital investment, and operating funding requirements.

B. The anticipated environmental, congestion mitigation, and other public benefits.

C. The projected trip times and their competitiveness with other transportation modes.

D. The anticipated positive economic and employment impacts.

E. The benefits to rural communities.

F. Whether the Corridor serves historically unserved or underserved and low-income communities or areas of persistent poverty.

G. Whether the Corridor would benefit or improve connectivity with existing or planned transportation services of other modes.

H. Whether the Corridor connects at least 2 of the 100 most populated metropolitan areas.

I. Whether the Corridor would enhance the regional equity and geographic diversity of intercity passenger rail service.

J. Whether the Corridor is or would be integrated into the national rail passenger transportation system and would create benefits for other passenger rail routes and services.

ii. Technical Merit:

FRA will also evaluate application information for the following:

A. Whether the applicant is ready to commence activities under the Program and to complete, at a minimum, Step 1 and Step 2.

B. Whether the technical qualifications and experience of key personnel the applicant proposes to lead and perform the technical efforts, including the qualifications of the primary and supporting organizations, demonstrates the ability to fully, timely, and successfully execute Step 1 and Step 2 activities for the Corridor.

C. The applicant's commitment to the Implementation and operation of the Corridor (e.g., documented support for the Corridor from relevant legislative and executive government bodies, an established history of support for intercity passenger rail operations and capital investments, etc.).

D. Whether the route was identified as part of a regional or interregional planning study.

E. The committed or anticipated non-Federal funding for operating and capital costs.¹⁵

¹⁵ As noted, FRA recognizes that detailed information may not have been developed for the Corridor at the time of application. Applications will not be penalized in the evaluation process if detailed information related to this criteria is not available at the time of application.

F. Whether the Corridor is included in a State's approved State rail plan.

G. Whether a passenger rail operator has expressed support for the Corridor.

c. Selection Criteria

In addition to the eligibility and completeness review and the evaluation criteria outlined above, FRA will apply the following selection criteria:

i. DOT Strategic Goals

A. Safety.

FRA will assess the Corridor's ability to foster a safe transportation system for the movement of goods and people, consistent with the Department's strategic goal to reduce transportation-related fatalities and serious injuries across the transportation system. To the extent applicable, such considerations will include, but are not limited to, the extent to which the Corridor improves safety at highway-rail grade crossings, reduces incidences of rail-related trespassing, upgrades infrastructure to achieve a higher level of safety, and uses an appropriately trained workforce.

B. Economic Strength and Global Competitiveness.

1. Infrastructure Investment and Job Creation.

In support of Executive Order 14025, Worker Organizing and Empowerment (86 FR 22829), and Executive Order 14052, Implementation of the Infrastructure Investment and Jobs Act (86 FR 64335), FRA will assess to the extent applicable the Corridor's ability to contribute to economic progress stemming from infrastructure investment and associated job creation in the industry. Such considerations will include, but are not limited to, the extent to which the Corridor results in long-term job creation by supporting good-paying construction and manufacturing jobs directly related to the Corridor with free and fair choice to join a union, such as through the use of project labor agreements or union neutrality agreements, pre-apprenticeships tied to Registered Apprenticeships, Registered Apprenticeships, community-benefit agreements, and local hiring provisions, or other targeted preferential hiring requirements, or other similar standards or protections; invests in vital infrastructure assets and provides opportunities for families to achieve economic security through rail industry employment.

2. Support Resilient Supply Chains & Economic Opportunity.

To the extent applicable, Corridors will also be assessed by their ability to promote the efficiency and resilience of supply chains by increasing freight rail capacity, reducing congestion, alleviating bottlenecks, and increasing multimodal connections. In addition, applicants are encouraged to consider the ability of the Corridor to provide greater access to economic opportunity to residents through greater connections to jobs, commerce, and educational opportunities. Applicants are also encouraged to consider the ability of the Corridor to encourage transit-oriented development to the extent it is applicable.

C. Equity.

In support of Executive Order 13985, Advancing Racial Equity and Support for Underserved Communities Through the Federal Government (86 FR 7009), and Executive Order 14008, Tackling the Climate Crisis at Home and Abroad (86 FR 7619), to the extent applicable FRA will assess the Corridor's ability to address equity and barriers to opportunity, to the extent possible within the Program and consistent with law. Such considerations will include, but are not limited to, the applicant's plan for using small businesses to complete work activities under the Program, the extent to which the Corridor improves or expands transportation options for underserved communities, mitigates the safety risks and detrimental quality of life effects that rail lines can have on communities especially those communities that might have been historically disconnected due to the railroad infrastructure, and expands workforce development and career pathway opportunities to foster a more diverse rail industry. This will also include community engagement efforts already taken or planned, the extent to which engagement efforts are designed to meaningfully reach impacted communities, whether engagement is accessible for persons with disabilities or limited English proficient persons within the impacted communities, and how community feedback is taken into account in decision-making.

D. Climate and Sustainability.

In support of E.O. 14008, “Tackling the Climate Crisis at Home and Abroad,” to the extent applicable, to the extent applicable FRA will assess the Corridor's ability to reduce the harmful effects of climate change and anticipate necessary improvements to prepare for extreme weather events. Such considerations will include, but are not limited to, the extent to which the Corridor reduces emissions, promotes energy efficiency, increases resiliency, and recycles or redevelops existing infrastructure.

E. Transformation.

FRA will assess the Corridor's ability to expand and improve the nation's rail network, which needs to balance new infrastructure for increased capacity with proper maintenance of aging assets. As applicable, such considerations will include, but are not limited to, the extent to which the Corridor adds capacity to congested corridors, improves supply chain resilience, and ensures assets will be improved to a state of good repair.

ii. Previous Federal High-Speed Rail Corridor Designations

Beginning with the enactment of the Intermodal Surface Transportation Efficiency Act of 1991, and continuing through 2011, FRA “designated” a total of 11 high-speed rail corridors.¹⁶ FRA will take these designations into consideration when evaluating applications to participate in the Program.

¹⁶ These designated rail corridors are as follows: (1) a Midwest corridor (linking Chicago, IL with Detroit, MI, St. Louis, MO, and Milwaukee, WI; an extension from Milwaukee, WI to Minneapolis/St. Paul, MN; an extension to Indianapolis, IN and Cincinnati, OH; an extension from Chicago, IL to Toledo, OH and Cleveland, OH; an extension from Indianapolis, IN to Louisville, KY; an extension between Cleveland, OH, Columbus, OH, Dayton, OH, and Cincinnati, OH; and an extension from St. Louis, MO to Kansas City, MO); (2) a Florida corridor (linking Miami with Orlando and Tampa); (3) a California corridor (linking San Diego, Los Angeles, the San Francisco Bay, and Sacramento; and an extension to Las Vegas, NV); (4) a Southeast corridor (connecting Charlotte, NC, Richmond, VA, and Washington DC; an extension from Charlotte, NC to Greenville, SC to Atlanta, GA to Macon, GA; an extension from Raleigh, SC to Columbia, SC and to Savannah, GA and Jacksonville, FL; and an extension from Macon, GA to Jesup, GA); (5) a Pacific Northwest corridor (linking Eugene, OR and Portland, OR with Seattle, WA and Vancouver, Canada); (6) a Gulf Coast corridor (including an extension from Birmingham, AL to Atlanta, GA); (7) a Keystone corridor (from Philadelphia to Harrisburg; and an extension from Harrisburg to Pittsburgh); (8) an Empire State corridor (from New York City to Albany and Buffalo); (9) a Northern New England corridor (linking Boston, MA with Portland/Auburn, ME and Montreal, Canada; and an extension from Boston, MA to Springfield, MA and Albany, NY and from Springfield, MA to New Haven, CT); (10) a South Central corridor (linking Dallas/Ft. Worth, TX with Austin, TX and San Antonio, TX, Oklahoma City, OK and Tulsa, OK, and Texarkana, TX/AR, and Little Rock, AR); and (11) a Northeast corridor (between Washington, DC, Philadelphia, PA, New York, NY, and Boston, MA).

iii. Other Factors

While FRA intends the Corridor ID Program to support the development of many, varied intercity passenger rail corridors, FRA may limit its selection of Corridors, particularly at the beginning of the Program, based on several considerations. Such considerations may include the availability of Federal funding to implement Corridors developed under the Corridor ID Program, the capacity of the intercity passenger rail industry as a whole to support the Corridor development efforts, and a strategy to grow the Program at a sustainable rate.

FRA's selection of Corridors may also be influenced by the overall level of risk, complexity, and level of effort associated with the development of a Corridor. For example, FRA may limit the number of selected Corridors that involve entirely new intercity passenger rail services, due to the significant risks, complexity, and level of effort involved in developing and implementing such proposals. Conversely, FRA may be more expansive in selecting Corridors that involve incremental improvements to existing services, as the development of such proposals would likely involve relatively lower risk, complexity, and level of effort.

2. Review and Selection Process

FRA will conduct a five-part application review and selection process, as follows:

a. Screen applications for applicant eligibility, corridor eligibility, completeness, and applicant risk including past performance in developing and delivering similar projects;

b. Evaluate screened applications (completed by technical panels applying the evaluation criteria);

c. If applicable, conduct discussions with applicants of screened applications, including to address potential Corridor scaling; the prioritization of Corridors for applicants with multiple applications; and a Corridor's geographic overlap with another Corridor;

d. Review and apply selection criteria and recommend initial selection of Corridors for the FRA Administrator's review (completed by a non-career Senior Review Team, which includes senior leadership from the Office of the Secretary and FRA); and

e. Select recommended corridors for the Secretary's review and approval (completed by the FRA Administrator).

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information, in making a judgment about the applicant's integrity, business ethics, and record of performance under Federal awards when completing the review of risk posed by applicants as described in 2 CFR 200.205.

F. Federal Award Administration Information

1. Federal Award Notice

FRA will announce applications selected for participation in the Corridor ID Program in a press release and on FRA's website after the application review period. This announcement is FRA's notification to successful and unsuccessful applicants alike. FRA will contact applicants with successful applications after announcement with information and instructions about the award process. This notification is not an authorization to begin proposed Step 1 activities. FRA requires satisfaction of applicable requirements by the applicant and a formal agreement signed by both the grantee and the FRA before obligating the grant. See an example of standard terms and conditions for FRA grant awards at https://railroads.fra.dot.gov/elibrary/award-administration-and-grant-conditions. This template is subject to revision.

2. Administrative and National Policy Requirements

In connection with any program or activity conducted with or benefiting from funds awarded under this notice, grantees must comply with all applicable requirements of Federal law, including, without limitation: the Constitution of the United States; the relevant authorization and appropriations, the conditions of performance, nondiscrimination requirements, and other assurances made applicable to the award of funds in accordance with regulations of DOT; and applicable Federal financial assistance and contracting principles promulgated by the Office of Management and Budget (OMB). In complying with these requirements, grantees, in particular, must ensure that no concession agreements are denied or other contracting decisions made on the basis of speech or other activities protected by the First Amendment. If FRA determines that a grant recipient has failed to comply with applicable Federal requirements, FRA may terminate the award of funds and disallow previously incurred costs, requiring the recipient to reimburse any expended award funds. See an example of standard terms and conditions for FRA grant awards at https://railroads.fra.dot.gov/elibrary/award-administration-and-grant-conditions. This template is subject to revision.

Examples of administrative and national policy requirements include: 2 CFR part 200; procurement standards at 2 CFR part 200 subpart D—Procurement Standards; 2 CFR 1207.317 and 2 CFR 200.401; compliance with Federal civil rights laws and regulations; disadvantaged business enterprises requirements; debarment and suspension requirements; drug-free workplace requirements; FRA's and OMB's Assurances and Certifications; Americans with Disabilities Act; safety requirements; NEPA; environmental justice requirements; and 2 CFR 200.315, governing rights to intangible property. Unless otherwise stated in statutory or legislative authority, or appropriations language, all financial assistance awards follow the Uniform Administrative Requirements, Cost Principles and Audit Requirements for Federal Awards at 2 CFR part 200 and 2 CFR part 1201.

Selected Corridors must sufficiently consider climate change and sustainability in their planning and development activities, as determined by FRA, consistent with Executive Order 14008, Tackling the Climate Crisis at Home and Abroad (86 FR 7619). Activities that address climate change include, but are not limited to, demonstrating: the Corridor will result in significant greenhouse gas emissions reductions; and the Corridor supports emissions reductions goals in a Local/Regional/State plan. Activities that address EJ include but are not limited to: basing Corridor and project design on the results of a proven EJ screening tool (developed by another Federal agency such as the EPA,¹⁷ a State agency, etc.); conducting enhanced, targeted outreach to EJ communities; considering EJ in alternatives analysis and final project design; and supporting a modal shift in passenger movement to reduce emissions or reduce induced travel demand.

¹⁷ For more information regarding the EPA EJ screening tool see https://www.epa.gov/ejscreen.

Selected Corridors must sufficiently consider equity and barriers to opportunity in their planning and development activities, as determined by FRA, consistent with Executive Order 13985, Advancing Racial Equity and Support for Underserved Communities Through the Federal Government (86 FR 7009). Activities that address equity and barriers to opportunity include, but are not limited to: completing an equity impact analysis for the Corridor; adopting an equity and inclusion program/plan; conducting meaningful public engagement to ensure underserved communities are provided an opportunity to be involved in the planning process and is conducted in a manner that is consistent with title VI requirements; including investments that either redress past barriers to opportunity or that proactively create new connections and opportunities for underserved communities; hiring from local communities; improving access to or providing economic growth opportunities for underserved, overburdened, or rural communities; or addressing historic or current inequitable air pollution or other environmental burdens and impacts.

Each applicant selected to participate in the Corridor ID Program must ensure that, to the extent applicable, the service development planning activities and the Project Development activities under the Program sufficiently consider job quality and labor rights, as determined by the Department of Labor, consistent with Executive Order 14025, Worker Organizing and Empowerment (86 FR 22829), and Executive Order 14052, Implementation of the Infrastructure Investment and Jobs Act (86 FR 64335). Specifically, the service development planning activities and the Project Development activities must support: (a) strong labor standards and the free and fair choice to join a union,¹⁸ including project labor agreements, local hire agreements,¹⁹ distribution of workplace rights notices, and the use of an appropriately trained workforce; (b) support of high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve these underrepresented groups, and proactive plans to prevent harassment. In addition, to the extent applicable, the grant conditions and other requirements in 49 U.S.C. 22905, including protective arrangements that are equivalent to the protective arrangements established under section 504 of the Railroad Revitalization and Regulatory Reform Act of 1976 (45 U.S.C. 836) with respect to employees affected by action taken in connection with a project to be financed in whole or in part by grants subject to 49 U.S.C. 22905, will apply to Corridor ID Program projects at Implementation.

¹⁸ Federal funds may not be used to support or oppose union organizing, whether directly or as an offset for other funds.

¹⁹ IIJA div. B section 25019 provides authority to use geographical and economic hiring preferences, including local hire, for construction jobs, subject to any applicable State and local laws, policies, and procedures.

The Office of Federal Contract Compliance Programs (OFCCP) is charged with protecting America's workers by enforcing equal employment opportunity and affirmative action obligations of employers that do business with the Federal Government. OFCCP enforces Executive Order 11246, section 503 of the Rehabilitation Act of 1973, and the Vietnam Era Veterans' Readjustment Assistance Act of 1974. Together these legal authorities make it unlawful for federal contractors and subcontractors to discriminate in employment because of race, color, religion, sex, sexual orientation, gender identity, national origin, disability, or status as a protected veteran.

Consistent with E.O. 11246, Equal Employment Opportunity (30 FR 12319, and as amended), all Federally assisted contractors are required to make good faith efforts to meet the goals of 6.9% of construction project hours being performed by women, in addition to goals that vary based on geography for construction work hours and for work being performed by people of color. Under section 503 of the Rehabilitation Act and its implementing regulations, affirmative action obligations for certain contractors include an aspirational employment goal of 7% workers with disabilities.

The OFCCP has a Mega Construction Project Program through which it engages with project sponsors as early as the design phase to help promote compliance with non-discrimination and affirmative action obligations. Through the program, OFCCP offers contractors and subcontractors extensive compliance assistance, conducts compliance evaluations, and helps to build partnerships between the project sponsor, prime contractor, subcontractors, and relevant stakeholders. To the extent applicable, OFCCP will identify projects that receive an award under this notice and are required to participate in OFCCP's Mega Construction Project Program from a wide range of federally assisted projects over which OFCCP has jurisdiction and that have a project cost above $35 million. DOT will require project sponsors with costs above $35 million that receive awards under this funding opportunity to partner with OFCCP, if selected by OFCCP, as a condition of their DOT award. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.”

Critical Infrastructure Security and Resilience

It is the policy of the United States to strengthen the security and resilience of its critical infrastructure against both physical and cyber threats, consistent with Presidential Policy Directive 21—Critical Infrastructure Security and Resilience. Each applicant selected for funding under this notice should take efforts in the Corridor's service development planning and Project Development to consider and address, as applicable, relevant physical and cyber security risks, consistent with the cybersecurity performance goals for critical infrastructure and control systems directed by the National Security Presidential Memorandum on Improving Cybersecurity for Critical Infrastructure Control Systems, found at http://www.cisa.gov/cpgs.

Domestic Preference Requirements

Assistance under this notice is subject to the Buy America requirements in 49 U.S.C. 22905(a) and the Build America, Buy America Act, Public Law 117-58, sections 70901-52, to the extent applicable to a Corridor's service development planning and Project Development activities. In addition, as expressed in Executive Order 14005, Ensuring the Future Is Made in All of America by All of America's Workers (86 FR 7475), it is the policy of the executive branch to maximize, consistent with law, the use of goods, products, and materials produced in, and services offered in, the United States. FRA expects all applicants, to the extent this requirement is applicable to a Corridor selected to participate in the Corridor ID Program, to comply with that requirement without needing a waiver. However, to obtain a waiver, a recipient must be prepared to demonstrate how they will maximize the use of domestic goods, products, and materials in constructing their project.

Civil Rights and Title VI

Applications should demonstrate that the recipient has a plan for compliance with civil rights obligations and nondiscrimination laws, including title VI of the Civil Rights Act of 1964 and implementing regulations (49 CFR part 21), the Americans with Disabilities Act of 1990 (ADA), and section 504 of the Rehabilitation Act, and accompanying regulations. This may include, as applicable, providing a title VI plan, community participation plan, and other information about the communities that will be benefited and impacted by the Corridor. The Department's and FRA's Offices of Civil Rights may provide resources and technical assistance to recipients to ensure full and sustainable compliance with Federal civil rights requirements.

3. Reporting

a. Progress Reporting on Grant Activity

Each applicant selected for a grant will be required to comply with all standard FRA reporting requirements, including quarterly progress reports, quarterly Federal financial reports, and interim and final performance reports, as well as all applicable auditing, monitoring and close out requirements. Reports must be submitted electronically. Pursuant to 2 CFR 170.210, non-Federal entities applying under this notice must have the necessary processes and systems in place to comply with the reporting requirements should they receive Federal funding.

b. Additional Reporting

Applicants selected for funding are required to comply with all reporting requirements in the standard terms and conditions for FRA grant awards including 2 CFR 180.335 and 2 CFR 180.350. If the total value of a selected applicant's currently active grants, cooperative agreements, and procurement contracts from all Federal awarding agencies exceeds $10,000,000 for any period of time during the period of performance of this Federal award, then the applicant during that period of time must maintain the currency of information reported SAM that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

c. Performance and Program Evaluation

Recipients and subrecipients are also encouraged to incorporate program evaluation, including associated data collection activities from the outset of their program design and implementation, to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, part 6 section 290).

For grant recipients receiving an award, evaluation costs are allowable costs (either as direct or indirect), unless prohibited by statute or regulation, and such costs may include the personnel and equipment needed for data infrastructure and expertise in data analysis, performance, and evaluation. (2 CFR part 200).

d. Performance Reporting

Each applicant selected for funding must collect information and report on performance using measures mutually agreed upon by FRA and the grantee to assess progress in achieving strategic goals and objectives.

G. Federal Awarding Agency Contacts

For further information related to this notice, please contact Peter Schwartz, Acting Director, Office of Railroad Planning and Engineering, Federal Railroad Administration, 1200 New Jersey Avenue SE, by email: PaxRailDev@dot.gov or by telephone: 202-493-6360.

H. Other Information

All information submitted as part of or in support of any application shall use publicly available data or data that can be made public and methodologies that are accepted by industry practice and standards, to the extent possible. If the application includes information the applicant considers to be a trade secret or confidential commercial or financial information, the applicant should do the following: (1) note on the front cover that the submission “Contains Confidential Business Information (CBI)”; (2) mark each affected page “CBI”; and (3) highlight or otherwise denote the CBI portions.

The DOT regulations implementing the Freedom of Information Act (FOIA) are found at 49 CFR part 7 subpart C—Availability of Reasonably Described Records under the Freedom of Information Act and sets forth rules for FRA to make requested materials, information, and records publicly available under FOIA. Unless prohibited by law and to the extent permitted under the FOIA, contents of application and proposals submitted by successful applicants may be released in response to FOIA requests.

Except for the information properly marked as described in section (H), the Department may share application information within the Department or with other Federal agencies if the Department determines that sharing is relevant to the respective program's objectives.

Issued in Washington, DC.
Amitabha Bose,
Administrator.

[FR Doc. 2022-27559 Filed 12-19-22; 8:45 am]

BILLING CODE 4910-06-P